ENVIRONMENTAL PROTECTION AGENCY

40 CFR Part 261

[SW-FRL-7435-3]

Reopening of Comment Period for Proposed Exclusion for Identifying and Listing Hazardous Waste and A Determination of Equivalent Treatment; Proposed Rule

AGENCY: Environmental Protection Agency.

ACTION: Proposed rule; notice of reopening of comment period.

SUMMARY: The Environmental Protection Agency (EPA, also, ‘the Agency’ or ‘we’) is reopening the period for submitting public comments on our previous proposal to approve two petitions submitted by the University of California—E.O. Lawrence Berkeley National Laboratory (or LBNL). The Agency initially announced this proposed decision in the July 31, 2002 Federal Register (67 FR 49649). The first petition requested EPA to grant a one-time, generator-specific exclusion (or ‘delisting’) of certain LBNL treatment residues from the list of RCRA hazardous waste. The second petition requested EPA to grant a “determination of equivalent treatment” (DET) for a catalytic chemical oxidation (CCO) technology that LBNL used to treat their original mixed waste.

For the first petition, EPA reviewed all of the waste-specific information provided by LBNL and determined that the petitioned waste (tritiated water with no detectable organic chemical constituents) was non-hazardous. For the second petition, EPA reviewed all of the specific CCO treatment information provided by LBNL and determined that the CCO treatment was equivalent to combustion.

EPA received a written request for an informal public hearing. Exercising the discretion set forth in the rules for rulemaking petitions, EPA has granted the request and will hold a public hearing. The purpose of the hearing will be to hear oral comments on our tentative decision.

DATES: The public hearing will be held on January 23, 2003 at 7 p.m. EPA is reopening the public comment period and we will accept public comments on these proposed decisions until February 6, 2003. We will stamp comments postmarked after the close of the comment period as “late.” These “late” comments may not be considered in formulating a final decisions.

ADDRESSES: The public hearing will be held at the North Berkeley Senior Center at 1901 Hearst Avenue, Berkeley, California. Please send two copies of your comments to Rich Vaille, Associate Director, Waste Management Division (WST-1), U.S. Environmental Protection Agency, 75 Hawthorne Street, San Francisco, CA 94105.

The RCRA regulatory docket for this proposed rule is located at the U.S. Environmental Protection Agency Records Center, 75 Hawthorne Street, San Francisco, CA 94105, and is available for viewing from 9 a.m. to 4 p.m., Monday through Friday, excluding Federal holidays. The docket contains the petition, all information submitted by the petitioner, and all information used by EPA to evaluate the petition. Call the EPA Region 9 RCRA Record Center at (415) 947-4596 for appointments. The public may copy material from the regulatory docket at $0.15 per page.

FOR FURTHER INFORMATION CONTACT: For general information, contact the RCRA Hotline at 800-424-9346. For technical information on specific aspects of these petitions, contact Cheryl Nelson at the address above or at 415-972-3291, e-mail address: nelson.cheryl@epa.gov.

Dated: December 20, 2002.
Richard Vaille,
Acting Director, Waste Management Division, Region IX.

[FR Doc. 03-174 Filed 1-3-03; 8:45 am]

BILLING CODE 6560-50-P